DEPARTMENT OF AGRICULTURE

Forest Service

Siuslaw Resource Advisory Committee Meeting

AGENCY: Forest Service, USDA.

ACTION: Notice of meeting.

SUMMARY: The Siuslaw Resource Advisory Committee (RAC) will meet on February 7 and 8, 2002. The meeting will begin at 9 a.m. in the Siuslaw Valley Fire & Rescue Station, 2625 Highway 101 N., Florence, OR. Draft agenda items include: Assigning Priorities to Title II Projects; and Public Forum. The meeting is expected to adjourn at 4 p.m. Interested citizens are encouraged to attend.

FOR FURTHER INFORMATION CONTACT: Linda Stanley, Community Development Specialist, Siuslaw National Forest, 541/750-7210 or write to Forest Supervisor, Siuslaw National Forest, PO Box 1148, Corvallis, OR 97339.

Dated: January 11, 2002.
Gloria D. Brown,
Forest Supervisor.

[FR Doc. 02-1311 Filed 1-17-02; 8:45 am]

BILLING CODE 3410-11-M